DEPARTMENT OF HEALTH AND HUMAN SERVICES

National Institutes of Health

Center for Scientific Review; Amended Notice of Meeting

Notice is hereby given of a change in the meeting of the Center for Scientific Review Special Emphasis Panel, November 18, 2009, 3 p.m. to November 18, 2009, 10 p.m., Beacon Hotel and Corporate Quarters, 1615 Rhode Island Avenue, NW., Washington, DC, 20036 which was published in the Federal Register on November 3, 2009, 74 FR 56855.

The starting time of the meeting on November 18, 2009 has been changed to 6 p.m. until adjournment at 10 p.m. The meeting date and location remain the same. The meeting is closed to the public.

Dated: November 5, 2009.
Jennifer Spaeth,
Director, Office of Federal Advisory Committee Policy.

[FR Doc. E9-27216 Filed 11-10-09; 8:45 am]

BILLING CODE 4140-01-P